DEPARTMENT OF THE INTERIOR

Bureau of Ocean Energy Management

[MMAA104000]

Notice of Intent To Prepare a Supplemental Environmental Impact Statement for Outer Continental Shelf, Alaska OCS Region, Chukchi Sea Planning Area, Oil and Gas Lease Sale 193

AGENCY: Bureau of Ocean Energy Management (BOEM), Interior.

ACTION: Notice of Intent (NOI) to Prepare a Supplemental Environmental Impact Statement (EIS).

SUMMARY: BOEM is giving notice of its intent to prepare a Supplemental EIS for OCS Oil and Gas Lease Sale 193 in the Chukchi Sea Planning Area, Alaska. This Supplemental EIS will provide new analysis in response to a remand by the United States Court of Appeals for the Ninth Circuit.

SUPPLEMENTARY INFORMATION:

Authority: The NOI is published pursuant to the regulations (40 CFR 1508.22) implementing the procedural provisions of the National Environmental Policy Act (NEPA) of 1969, as amended (42 U.S.C. 4321 et seq.)

Purpose of Notice of Intent: BOEM is announcing its intent to prepare a Supplemental EIS for Oil and Gas Lease Sale 193 in the Chukchi Sea Planning Area, Alaska. The Supplemental EIS will supplement the analysis from the Oil and Gas Lease Sale 193 Final EIS (OCS EIS/EA MMS 2007-0026) and the Oil and Gas Lease Sale 193 Final Supplemental EIS (OCS EIS/EA BOEMRE 2011-041) by providing an updated oil and gas exploration, development and production scenario and associated environmental effects analysis. The Final EIS for Oil and Gas Lease Sale 193 evaluated the potential effects of four alternatives that included a proposed action, a no action alternative, and two other alternatives with sale area configurations that would defer areas from leasing along the coast adjacent to the proposed sale area. The Final Supplemental EIS evaluated the potential effects of exploration seismic surveying and drilling; oil development, production, and transportation; and accidental crude oil spills. The Final Supplemental EIS also evaluated potential effects of a natural gas development and production scenario, as well as a hypothetical Very Large Oil Spill event. The proposed action and alternatives from the Final EIS and Final Supplemental EIS will be carried forward in this supplemental EIS. The Assistant Secretary will issue a new Record of Decision after evaluating this supplemental EIS and public comments. Implementation of the Secretary's selection among the alternatives will require the Secretary to either reaffirm, modify, or vacate the leases previously sold.

Scoping: In accordance with 40 CFR 1502.9(c)(4), there will be no scoping conducted for this Supplemental EIS. The scope of the Final EIS for Sale 193 and the remand by the United States Court of Appeals for the Ninth Circuit establish the scope for this Supplemental EIS. The Draft Supplemental EIS will be announced for public review and comment: (1) In the Federal Register by BOEM and the Environmental Protection Agency; (2) on the BOEM Alaska OCS Region homepage; and (3) in the local media. Public hearings will be held following release of the Draft Supplemental EIS. Dates and locations will be determined and published at a later date.

Cooperating Agencies: The Department of the Interior's policy is to invite other Federal agencies, and state, tribal, and local governments to become cooperating agencies during the preparation of an EIS. Council on Environmental Quality (CEQ) regulations state that qualified agencies and governments are those with “jurisdiction by law or special expertise.” Potential cooperating agencies should consider their authority and capacity to assume the responsibilities of a cooperating agency. Cooperating agency status neither enlarges nor diminishes the final decision making authority of an agency involved in the NEPA process. BOEM invites qualified government entities to inquire about cooperating agency status for this Supplemental EIS. Upon request, BOEM will provide qualified cooperating agencies with a written summary of ground rules for cooperating agencies, including time schedules and critical action dates, milestones, responsibilities, and scope and detail of cooperating agencies' contributions. Potential cooperating agencies should also consider the CEQ's “Factors for Determining Cooperating Agency Status.” This document is available on the CEQ Web site at: http://ceq.hss.doe.gov/nepa/regs/cooperating/cooperatingagencymemofactors.html. Even if your organization is not a cooperating agency, you will have an opportunity to provide information and comments to BOEM during the comment phase of the Supplemental EIS process. Additional information may be found at the following Web site: http://www.boem.gov/Alaska-Region.

FOR FUTHER INFORMATION CONTACT: Frances Mann, Chief, Environmental Analysis Section II, Bureau of Ocean Energy Management, Alaska OCS Region, 3801 Centerpoint Drive, Suite 500, Anchorage, Alaska 99503-5820, telephone (907) 334-5277.

Dated: June 9, 2014.
Walter D. Cruickshank,
Acting Director, Bureau of Ocean Energy Management.

[FR Doc. 2014-14290 Filed 6-19-14; 8:45 am]

BILLING CODE 4310-MR-P